COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products and services from the Procurement List previously furnished by such agencies.

DATES: Date added to and deleted from the Procurement List: August 16, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 5/15/2020 and 6/12/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s):

MR 11100—Server, Gravy and Sauce, Includes Shipper 21100

MR11130—Carving Kit, Pumpkin, Assorted Colors

Mandatory Source of Supply: Winston-Salem Industries for the Blind, Inc., Winston-Salem, NC

Mandatory For:

Contracting Activity: Military Resale-Defense Commissary Agency

NSN(s)—Product Name(s):

MR 1186—Broom Dustpan Combo

Mandatory Source of Supply: LC Industries, Inc., Durham, NC

Mandatory For:

Contracting Activity: Military Resale-Defense Commissary Agency

Service

Service Type: Base Supply Center

Mandatory for: New Mexico National Guard, Santa Fe, NM

Mandatory Source of Supply: Envision, Inc., Wichita, KS

Contracting Activity: DEPT OF THE ARMY, W7NQ USPFO ACTIVITY NM ARNG

Deletions

On 6/12/2020, the Committee for Purchase From People Who Are Blind or Severely Disabled published notice of proposed deletions from the Procurement List. This notice is published pursuant to 41 U.S.C. 8503 (a)(2) and 41 CFR 51-2.3.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8415-01-043-4036—Drawers, Flyers, Aramid, Navy, Ankle Length, Natural, XS

8415-00-467-4075—Drawers, Flyers, Aramid, Navy, Ankle Length, Natural, Small

8415-00-467-4076—Drawers, Flyers, Aramid, Navy, Ankle Length, Natural, Medium

8415-00-467-4078—Drawers, Flyers, Aramid, Navy, Ankle Length, Natural, Large

8415-00-467-4100—Drawers, Flyers, Aramid, Navy, Ankle Length, Natural, X Large

Mandatory Source of Supply: Peckham Vocational Industries, Inc., Lansing, MI

Contracting Activity: DLA TROOP SUPPORT, PHILADELPHIA, PA

NSN(s)—Product Name(s):

7510-01-451-2269—Refill, Ball Point Pen, Pushcap, Black Ink, Medium Point

7510-01-451-2273—Refill, Ball Point Pen, Pushcap, Blue Ink, Medium Point

Mandatory Source of Supply: West Texas Lighthouse for the Blind, San Angelo, TX

Contracting Activity: GSA/FAS ADMIN SVCS ACQUISITION BR(2, NEW YORK, NY

NSN(s)—Product Name(s):

8470-00-NIB-0026—Kit, ACH Pad, Rplcmt

8470-00-NIB-0027—Kit, ACH Retrofit

8470-00-NIB-0028—Kit, ACH Retrofit

Mandatory Source of Supply: Winston-Salem Industries for the Blind, Inc., Winston-Salem, NC

Contracting Activity: W6QK ACC-APG NATICK, NATICK, MA

NSN(s)—Product Name(s)

7360-00-139-1063—Wash Kit Assembly

Mandatory Source of Supply: St. Lawrence County Chapter, NYSARC, Canton, NY

Contracting Activity: DLA TROOP SUPPORT, PHILADELPHIA, PA

Michael R. Jurkowski,
Deputy Director, Business & PL Operations.

[FR Doc. 2020-15515 Filed 7-16-20; 8:45 am]

BILLING CODE 6353-01-P